DEPARTMENT OF STATE

[PUBLIC NOTICE #3744]

Notice of Meetings; United States International Telecommunication Advisory Committee, Telecommunication Development (ITAC-D)

The Department of State announces a meeting of the U.S. International Telecommunication Advisory Committee. The purpose of the Committee is to advise the Department on policy and technical issues with respect to the International Telecommunication Union (ITU).

There will be two September meetings of the ITAC-D: Friday, September 21, 2001, from 10:00 to noon & Wednesday, September 26, 2001, from 10:00 to noon. The agenda for both meetings is to prepare for the meeting of the ITU-D Telecommunication Development Advisory Group (TDAG), scheduled for Geneva, October 3-5 & to prepare for the WTDC02: Americas Regional Preparatory Meeting scheduled for October 16-18, Port o' Spain, Trinidad & Tobago. Meetings will be at the Department of State in rooms yet to be determined.

Members of the general public may attend these meetings. Directions to meeting location and actual room assignments may be determined by calling the Secretariat at 202 647-0965/2592. Entrance to the building is controlled; people intending to attend this meeting should send an e-mail to williamscd@state.gov no later than 48 hours before the meeting for preclearance. This e-mail should display the name of the meeting and date of meeting, your name, social security number, date of birth, and organizational affiliation. One of the following valid photo identifications will be required for admission: U.S. driver's license, passport, U. S. Government identification card. Enter the Department of State from the C Street Lobby; in view of escorting requirements, non-Government attendees should plan to arrive not less than 15 minutes before the meeting begins.

Attendees may join in the discussions, subject to the instructions of the Chair. Admission of members will be limited to seating available.

Dated: September 12, 2001.
Frank K. Williams,
Director, Radiocommunication Standardization, Department of State.

[FR Doc. 01-23486 Filed 9-17-01; 3:22 pm]

BILLING CODE 4710-45-P